DEPARTMENT OF AGRICULTURE

Animal and Plant Health Inspection Service

7 CFR Part 319

[Docket No. 03-016-4]

RIN 0579-AC18

Cut Flowers From Countries With Chrysanthemum White Rust

AGENCY: Animal and Plant Health Inspection Service, USDA.

ACTION: Final rule; stay of certain provisions.

SUMMARY: We recently published a final rule amending the cut flowers regulations to establish specific requirements for the importation of cut flowers that are hosts of chrysanthemum white rust (CWR) from countries where the disease is known to occur. The final rule had an effective date of May 3, 2007. In order to allow affected exporters of cut flowers and the national plant protection organizations of countries where CWR is known to occur additional time to make necessary preparations to comply with certain new inspection and certification procedures that will be required as a result of the final rule, we are staying a portion of the amended regulations for 30 days from the effective date of our final rule.

DATES: Effective May 11, 2007, 7 CFR 319.74-2(d)(3) is stayed until June 2, 2007.

FOR FURTHER INFORMATION CONTACT: Mr. Tony Roman, Import Specialist, Commodity Import Analysis and Operation, PPQ, APHIS, 4700 River Road Unit 133, Riverdale, MD 20737-1231; (301) 734-8758.

SUPPLEMENTARY INFORMATION:

Background

The regulations in 7 CFR part 319 prohibit or restrict the importation of plants, plant parts, and related materials to prevent the introduction of plant pests into the United States. The regulations in “Subpart—Nursery Stock, Plants, Roots, Bulbs, Seeds, and Other Plant Products,” §§ 319.37 through 319.37-14 (referred to below as the nursery stock regulations) restrict, among other things, the importation of living plants, plant parts, and seeds for propagation. Conditions governing the importation of cut flowers into the United States are contained in “Subpart-Cut Flowers” (§§ 319.74-1 through 319.74-4, referred to below as the cut flowers regulations).

On April 3, 2007, we published in the Federal Register (72 FR 15805-15812, Docket No. 03-016-3) a final rule amending the cut flowers regulations to establish specific requirements for the importation of cut flowers that are hosts of chrysanthemum white rust (CWR) from countries where the disease is known to occur. We also amended the nursery stock regulations to update lists of countries where CWR is known to occur. The final rule had an effective date of May 3, 2007.

We recently received communications from industry representatives and the Government of Colombia expressing concern that the May 3, 2007, effective date of the final rule did not allow adequate time for those entities to prepare to comply with the new inspection and certification procedures that will be required under § 319.74-2(d)(3) of the cut flowers regulations as a result of the final rule. A delay in the implementation of those new requirements was requested. After considering those requests, we have elected to allow an additional 30 days for those entities to prepare to comply with those new requirements. To provide that additional time, we are staying § 319.74-2(d)(3) until June 2, 2007.

We explained in the proposed rule that preceded our April 3, 2007, final rule, as well as in the final rule itself, that we have been administratively regulating cut flowers from countries where CWR is known to occur since 1974, and that those measures have been effective in preventing the introduction of CWR on cut flowers from those countries. During the time that § 319.74-2(d)(3) is stayed, we will continue to apply our existing administrative restrictions on cut flowers from countries where CWR is known to occur.

Authority: 7 U.S.C. 450, 7701-7772, and 7781-7786; 21 U.S.C. 136 and 136a; 7 CFR 2.22, 2.80, and 371.3.

Done in Washington, DC, this 3rd day of May 2007.
Kevin Shea,
Acting Administrator, Animal and Plant Health Inspection Service.

[FR Doc. E7-9151 Filed 5-10-07; 8:45 am]

BILLING CODE 3410-34-P